DEPARTMENT OF HEALTH AND HUMAN SERVICES

Health Resources and Services Administration

Centers for Disease Control and Prevention (CDC)/ Health Resources and Services Administration (HRSA) Advisory Committee on HIV, Viral Hepatitis and Sexually Transmitted Diseases (STD) Prevention and Treatment; Notice of Meeting

In accordance with section 10(a)(2) of the Federal Advisory Committee Act (Public Law 92-463), notice is hereby given of the following meeting:

Name: CDC/HRSA Advisory Committee on HIV, Viral Hepatitis and STD Prevention and Treatment (CHACHSPT).

Date and Time: November 4, 2015, 10:00 a.m.-4:30 p.m.; and November 5, 2015, 10:00 a.m.-12:30 p.m.

Place: This meeting is accessible via audio conference call and Adobe Connect Pro.

Status: This meeting is open to the public. The virtual meeting is available via teleconference line and Adobe Connect Pro Meeting and will accommodate approximately 100 people. Join the meeting by:

1. (Audio Portion) Calling the Toll Free Phone Number 1-800-369-3340 and providing the Public Participant Pass Code 4318075, and

2. (Visual Portion) Connecting to the Advisory Committee Adobe Connect Pro Meeting using the following URL: https://hrsa.connectsolutions.com/cdc-hrsa_ac/.

(Copy and paste the above link into your browser if it does not work directly). Participants should call and connect 15 minutes prior to the meeting in order for logistics to be set up. Call (301) 443-9684 or send an email to sgordon@hrsa.gov if you have any questions, or send an email to CWilliams2@hrsa.gov if you are having trouble connecting to the meeting site.

Purpose: This Committee is charged with advising the Director, CDC, and the Administrator, HRSA, regarding activities related to prevention and control of HIV/AIDS, Viral Hepatitis and other STDs; the support of health care services to persons living with HIV/AIDS; and education of health professionals and the public about HIV/AIDS, Viral Hepatitis and other STDs.

Agenda: Agenda items include: (1) CDC and HRSA Program Updates; (2) HRSA HIV Clinical Workforce Study; (3) Emerging Issues Related to ACA Implementation and Ryan White HIV/AIDS Program Client Level Data; (4) Impact of Ryan White HIV/AIDS Program on HIV Treatment Outcomes; and (3) CHAC Workgroup Updates (Pre-Exposure Prophylaxis, Hepatitis C Virus, and Data). Agenda items are subject to change.

Public Comment: Persons who desire to make an oral statement may request it at the time of the public comment period. Public participation and ability to comment will be limited to space and time as it permits.

FOR FURTHER INFORMATION CONTACT: Shelley B. Gordon, Senior Public Health Analyst, Health Resources and Services Administration, HIV/AIDS Bureau, Division of Policy and Data, 5600 Fishers Lane, Room 7C-26, Rockville, Maryland 20857, telephone (301) 443-9684, fax (301) 443-3343, or email sgordon@hrsa.gov.

Jackie Painter,
Director, Division of the Executive Secretariat.

[FR Doc. 2015-24957 Filed 10-1-15; 8:45 am]

BILLING CODE 4165-15-P